BUREAU OF CONSUMER FINANCIAL PROTECTION

[Docket No. CFPB-2022-0003]

Notice and Request for Comment Regarding Fees Imposed by Providers of Consumer Financial Products or Services

AGENCY: Bureau of Consumer Financial Protection.

ACTION: Notice; request for public comment; extension of comment period.

SUMMARY: On January 26, 2022, the Consumer Financial Protection Bureau (Bureau or CFPB) requested comment from the public related to fees that are not subject to competitive processes that ensure fair pricing. The request for comment was published in the Federal Register on February 2, 2022, in a document titled, “Request for Information Regarding Fees Imposed by Providers of Consumer Financial Products or Services.” The Bureau has determined that extension of the comment period until April 11, 2022, is appropriate.

DATES: The end of the comment period for the document titled, “Request for Information Regarding Fees Imposed by Providers of Consumer Financial Products or Services,” published on February 2, 2022 (87 FR 5801), is extended from March 31, 2022, until April 11, 2022.

ADDRESSES: You may submit comments, identified by Docket No. CFPB-2022-0003, by any of the following methods:

• Federal eRulemaking Portal: https://www.regulations.gov. Follow the instructions for submitting comments.

• Email: CFPB_FederalRegisterComments@cfpb.gov. Include Docket No. CFPB-2022-0003 in the subject line of the message.

• Mail/Hand Delivery/Courier: Comment Intake—Fee Assessment, Consumer Financial Protection Bureau, 1700 G Street NW, Washington, DC 20552. Please note that due to circumstances associated with the COVID-19 pandemic, the CFPB discourages the submission of comments by hand delivery, mail, or courier.

Instructions: The CFPB encourages the early submission of comments. All submissions should include document title and docket number. Because paper mail in the Washington, DC area and at the CFPB is subject to delay, commenters are encouraged to submit comments electronically. In general, all comments received will be posted without change to https://www.regulations.gov. In addition, once the CFPB's headquarters reopens, comments will be available for public inspection and copying at 1700 G Street NW, Washington, DC 20552, on official business days between the hours of 10 a.m. and 5 p.m. Eastern Time. At that time, you can make an appointment to inspect the documents by telephoning 202-435-7275. All comments, including attachments and other supporting materials, will become part of the public record and subject to public disclosure. Proprietary information or sensitive personal information, such as account numbers or Social Security numbers, or names of other individuals, should not be included. Comments will not be edited to remove any identifying or contact information.

FOR FURTHER INFORMATION CONTACT: Brian Shearer, Senior Advisor; Grace Bouwer, Advisor, Public Engagement, Director's Front Office, Office of the Director at 202-435-7700. If you require this document in an alternative electronic format, please contact CFPB_Accessibility@cfpb.gov.

SUPPLEMENTARY INFORMATION: On January 26, 2022, the Bureau issued a Request for Information regarding fees that are not subject to competitive processes that ensure fair pricing.¹ The information will help the CFPB and policymakers in exercising their enforcement, supervision, regulatory and other authorities to create a fairer, more transparent, and competitive consumer financial marketplace. As of mid-March, the CFPB has received more than 1,400 comments to the RFI, indicating a high level of public interest in this topic. Allowing an additional comment period will provide additional opportunity for the public to prepare comments related to this inquiry. Therefore, the Bureau is extending the comment period for this request until April 11, 2022.

¹ See 87 FR 5801 (Feb. 2, 2022).

Dani Zylberberg,
Counsel and Federal Register Liaison, Consumer Financial Protection Bureau.

[FR Doc. 2022-06581 Filed 3-28-22; 8:45 am]

BILLING CODE 4810-AM-P